DEPARTMENT OF COMMERCE

International Trade Administration

[A-570-830]

Continuation of Antidumping Duty Order: Coumarin From the People's Republic of China

AGENCY: Import Administration, International Trade Administration, Department of Commerce.

ACTION: Notice of Continuation of Antidumping Duty Order: Coumarin from the People's Republic of China.

SUMMARY: On May 4, 2000, the Department of Commerce (“the Department”), pursuant to sections 751(c) and 752 of the Tariff Act of 1930, as amended (“the Act”), determined that revocation of the antidumping duty order on coumarin from the People's Republic of China (“China”) is likely to lead to continuation or recurrence of dumping (65 FR 25906). On June 7, 2000, the International Trade Commission (“the Commission”), pursuant to section 751(c) of the Act, determined that revocation of the antidumping duty order on coumarin from China would be likely to lead to continuation or recurrence of material injury to an industry in the United States within a reasonably foreseeable time (65 FR 36163). Therefore, pursuant to 19 CFR 351.218(f)(4), the Department is publishing notice of the continuation of the antidumping duty order on coumarin from China.

EFFECTIVE DATE: June 21, 2000.

FOR FURTHER INFORMATION CONTACT: Martha V. Douthit or James P. Maeder, Office of Policy for Import Administration, International Trade Administration, U.S. Department of Commerce, 14th Street and Constitution Ave., NW, Washington, DC 20230; telephone: (202) 482-5050 or (202) 482-3330, respectively.

SUPPLEMENTARY INFORMATION:

Background

On December 30, 1999, the Department initiated, and the Commission instituted, a sunset review of the antidumping duty order on coumarin from China pursuant to section 751(c) of the Act. As a result of its review, the Department found that revocation of the antidumping duty order would likely lead to continuation or recurrence of dumping and notified the Commission of the magnitude of the margin likely to prevail were the order to be revoked (see Coumarin from the People's Republic of China; Final Results of Expedited Sunset Review, 65 FR 25906 (May 4, 2000)).

On June 7, 2000, the Commission determined, pursuant to section 751(c) of the Act, that revocation of the antidumping duty order on coumarin from China would be likely to lead to continuation or recurrence of material injury to an industry in the United States within a reasonably foreseeable time (see Coumarin from China, 65 FR 36163 (June 7, 2000) and USITC Publication 3305, Investigation No. 731-TA-677 (Review) (May 2000)).

Scope

The product covered by this order is coumarin from China. Coumarin is an aroma chemical with the chemical formula C9H6O2 that is also known by other names, including 2H-1-benzopyran-2-one,1-2-benzopyrone, cis-o-coumaric acid lactone, coumarin anhydride, 2-Oxo-1,2-benzopyran, 5-6-benzo-alpha-pyrone, ortho-hydroxyc innamic acid lactone, cis-ortho-coumaric acid anhydride, and tonka bean camphor. All forms and variations of coumarin are included within the scope of the order, such as coumarin in crystal, flake, or powder form, and “crude” or unrefined coumarin (i.e. prior to purification or crystallization). Excluded from the scope of this order are ethylcoumarins C11H10O2 and methylcoumarins C10H8O2.

Coumarin is classifiable under subheading 2932.21.0000 of the Harmonized Tariff Schedule of the United States (“HTSUS”). Although the HTSUS subheading is provided for convenience and customs purposes, our written description of the scope of this review is dispositive.

Determination

As a result of the determinations by the Department and the Commission that revocation of the antidumping duty order on coumarin from China would be likely to lead to continuation or recurrence of dumping and material injury to an industry in the United States, pursuant to section 751(d)(2) of the Act, the Department hereby orders the continuation of the antidumping duty order on coumarin from China. The Department will instruct the U.S. Customs Service to continue to collect antidumping duty deposits at the rates in effect at the time of entry for all imports of subject merchandise. The effective date of continuation of this order will be the date of publication in the Federal Register of this Notice of Continuation. Pursuant to section 751(c)(2) and 751(c)(6)(A) of the Act, the Department intends to initiate the next five-year review of this orders not later than May 2005.

Dated: June 14, 2000.
Troy H. Cribb,
Acting Assistant Secretary for Import Administration.

[FR Doc. 00-15686 Filed 6-20-00; 8:45 am]

BILLING CODE 3510-DS-P